DEPARTMENT OF ENERGY

[Docket No. EA-274]

Application To Export Electric Energy; Wisconsin Public Service Corporation

AGENCY: Office of Fossil Energy, DOE.

ACTION: Notice of application.

SUMMARY: Wisconsin Public Service Corporation (WPSC) has applied for authority to transmit electric energy from the United States to Canada pursuant to section 202(e) of the Federal Power Act.

DATES: Comments, protests or requests to intervene must be submitted on or before January 29, 2003.

ADDRESSES: Comments, protests or requests to intervene should be addressed as follows: Office of Coal & Power Im/Ex (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16U.S.C. 824a(e)).

On November 28, 2002, the Office of Fossil Energy (FE) of the Department of Energy (DOE) received an application from WPSC to transmit electric energy from the United States to Canada. WPSC is an investor-owned electric utility having its principal place of business in Green Bay, Wisconsin. WPSC is a wholly-owned subsidiary of WPS Resources and is engaged in the generation, distribution and sale of electric energy.

The electric energy to be sold by WPSC will be excess to its native load or purchased from generators, power marketers or Federal power marketing agencies. WPSC proposes to arrange for the delivery of electric energy to Canada over the existing international transmission facilities presently owned by Basin Electric Power Cooperative, Bonneville Power Administration, Citizens Utilities Co., International Transmission Company, Eastern Maine Electric Cooperative, Joint Owners of the Highgate Project, Long Sault, Inc., Maine Electric Power Company, Maine Public Service Company, Minnesota Power and Light Inc., Minnkota Power Cooperative, New York Power Authority, Niagara Mohawk Power Corporation, Northern States Power, and Vermont Electric Transmission Company. The construction, operation, maintenance, and connection of each of the international transmission facilities to be utilized by WPSC, as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the WPSC application to export electric energy to Canada should be clearly marked with Docket EA-274. Additional copies are to be filed directly with William L. Bourbonnais, Manager, Rates and Economic Evaluation, Wisconsin Public Service Corporation, 700 North Adams Street, PO Box 19001, Green Bay, WI 54307-9001 And David Martin Connelly, Esquire, Bruder, Gentile & Marcoux, L.L.P., 1100 New York Avenue, NW., Suite 510 East, Washington, DC 20005-3934.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory” Programs,” then “Electricity Regulation,” and then “Pending Proceedings” from the options menus.

Issued in Washington, DC, on December 24, 2002.
Anthony J. Como,
Deputy Director, Electric Power Regulation, Office of Coal & Power Im/Ex, Office of Coal & Power Systems, Office of Fossil Energy.

[FR Doc. 02-32911 Filed 12-27-02; 8:45 am]

BILLING CODE 6450-01-P